DEPARTMENT OF ENERGY

Federal Energy Regulatory Commission

[Docket Nos. CP00-61-000, CP00-62-000, CP00-63-000, and CP00-65-000]

Central New York Oil and Gas Company, LLC and Tennessee Gas Pipeline Company; Notice of Intent To Prepare an Environmental Assessment for the Proposed Stagecoach Storage Field and Expansion Projects, Request for Comments on Environmental Issues, and Notice of Public Scoping Meetings and Site Visit

February 18, 2000.

The staff of the Federal Energy Regulatory Commission (FERC or Commission) will prepare an environmental assessment (EA) that will discuss the environmental impacts of the Stagecoach Storage Field Project by Central New York Oil and Gas Company, LLC (Central New York) and the Stagecoach Expansion Project by Tennessee Gas Pipeline Company (Tennessee). These companion projects involve construction and operation of facilities in Bradford, Susquehanna, and Pike Counties, Pennsylvania; Tioga, Rockland, and Westchester Counties, New York; and Sussex, Passaic, and Bergen Counties, New Jersey.¹ The combined facilities would consist of about 49 miles of various diameter pipeline and 39,550 horsepower (hp) of compression. The EA will be used by the Commission in its decision-making process to determine whether the projects are in the public convenience and necessity.

¹ Central New York's application in Docket Nos. CP00-61-000, CP00-62-000, and CP00-63-000, were filed with the Commission on December 30, 1999, under section 7 of the Natural Gas Act and parts 157 and 284 of the Commission's regulations. Tennessee's application in Docket No. CP00-65-000 was filed with the Commission on December 30, 1999, under section 7 of the Natural Gas Act.

If you are a landowner on Central New York's or Tennessee's proposed route and receive this notice, you may be contacted by a pipeline company representative about the acquisition of an easement to construct, operate, and maintain the proposed facilities. The pipeline company would seek to negotiate a mutually acceptable agreement. However, if the projects are approved by the Commission, that approval conveys with it the right of eminent domain. Therefore, if easement negotiations fail to produce an agreement, the pipeline companies could initiate condemnation proceedings in accordance with state law.

A fact sheet prepared by the FERC entitled “An Interstate Natural Gas Facility On My Land? What Do I Need To Know?'' was attached to the project notice Central New York and Tennessee provided to landowners. This fact sheet addresses a number of typically asked questions, including the use of eminent domain and how to participate in the Commission's proceedings. It is available for viewing on the FERC Internet website (www.ferc.fed.us).

This Notice of Intent (NOI) is being sent to landowners crossed by Central New York's and Tennessee's proposed route; Federal, state, and local government agencies; national elected officials; regional environmental and public interest groups; Indian tribes that might attach religious and cultural significance to historic properties in the area of potential effects; local libraries and newspapers; and the Commission's list of parties to the proceeding. Government representatives are encouraged to notify their constituents of this proposed action and encourage them to comment on their areas of concern. Additionally, with this NOI we are asking Federal, state, local, and tribal agencies with jurisdiction and/or special expertise with respect to environmental issues to cooperate with us in the preparation of the EA. These agencies may choose to participate once they have evaluated Central New York's and Tennessee's proposals relative to their agencies; responsibilities. Agencies who would like to request cooperating status should follow the instructions for filing comments described below.

Summary of the Proposed Projects

Central New York proposes to develop an underground natural gas storage facility, with a working gas capacity of up to 13.6 billion cubic feet (Bcf), in Tioga County, New York, having withdrawals of as much as 500 million cubic feet per day (MMcf/d) and injections of as much as 250 MMcf/d. The Stagecoach Storage Field Project would make use of two producing but nearly depleted gas fields with a surface area of about 5,172 acres. Central New York seeks Commission authority to construct and operate the following facilities:

• Up to 24 storage injection/withdrawal wells;

• A 25,000-hp electrically-driven compressor station (Central Compression Facility) with gas cleaning and dehydration equipment, regulating facilities, pig launchers and receivers, miscellaneous values and regulators, and control equipment;

• A total of about 10 miles of 6-inch-, 12-inch-, and 20-inch-diameter pipeline;

• 14 meter stations and isolating valves along the gathering pipeline system; and

• About 2 miles of access roads not contained within pipeline or well site easements.

The Stagecoach Storage Field Project also includes a 4.8-mile-long, 12-inch-diameter pipeline (Twin Tier Lateral) from the Central Compressor Facility to a non-jurisdictional electric generating facility (Twin Tier Power Plant); and a 1.6-mile-long non-jurisdictional 115 (kilovolt) kV electric transmission line that would extend from the Central Compression Facility to a point of interconnection with a 115 kV transmission line owned by the New York State Electric & Gas Corporation.

In addition to connecting its existing pipeline system to the proposed Stagecoach Storage Field, Tennessee wants to expand the capacity of its existing 300-Line in Pennsylvania, New Jersey, and New York, to transport an additional 90,000 dekatherms (Dth) per day of natural gas to accommodate additional firm transportation service. Tennessee seeks Commission authority to construct and operate the following facilities:

• About 23.7 miles of 30-inch-diameter lateral (Stagecoach Lateral) extending from an interconnection with Tennessee's mainline system in Bradford County, Pennsylvania to an interconnect with Central New York's Stagecoach Storage Field Project in Tioga County, New York;

• A new bi-directional meter station, capable of handling 500,000 Dth per day, at the northern end of the Stagecoach Lateral;

• About 3.9 miles of 30-inch-diameter loop ² on its 300-Line in Susquehanna County, Pennsylvania;

² A loop is a segment of pipeline that is installed adjacent to an existing pipeline and connected to it on both ends. The loop allows more gas to be moved through the pipeline system.

• A new 14,550-hp Solar Mars gas turbine centrfugal compressor station near the Tennessee Mainline Valve 323-1 in Pike County, Pennsylvania;

• About 6.5 miles of 24-inch-diameter pipeline to replace various sections along the 300-Line in Pennsylvania and New Jersey as a result of increasing the maximum allowable operating pressure (MAOP of 74.1 miles of pipeline on the 300-Line; and

• Modifications and/or upgrades at 10 existing meter stations and 3 mainline valves at various locations along the 300-Line to accommodate the MAOP increase.

In addition, Tennessee seeks Commission authority to abandon the 6.5 miles of 24-inch-diameter pipeline which would be replaced as a part of the above-referenced MAOP uprate.

The general location of Central New York's and Tennessee's Project facilities are shown in appendix 1. ³

³ The appendices referenced in this notice are not being printed in the Federal Register. Copies are available on the Commission's website at the “RIMS” link or from the Commission's Public Reference and Files Maintenance Branch, 888 First Street, NE, Room 2A, Washington, DC 20426, or call (202) 208-1371. For instructions on connecting to RIMS refer to the last page of this notice. Copies of the appendices were sent to all those receiving this notice in the mail.

Land Requirements for Construction

Construction of the Stagecoach Storage Field and Expansion Projects would require about 887.2 acres of land. Following construction, Central New York would maintain about 171 acres and Tennessee would maintain about 198.5 acres as permanent right-of-way (ROW). The remaining 517.7 acres of land would be restored and allowed to revert to its former use.

Central New York proposes to use a typical pipeline construction ROW width of 85 feet for the gathering pipelines, consisting of 50 feet of permanent ROW and 35 feet of temporary extra work space. The Twin Tier Lateral would require both a construction and permanent ROW width of 100 feet, which it would share with an existing and proposed transmission line ROW. Central New York's Central Compression Facility would permanently occupy an area of about 5.7 acres on a 45-acre parcel it currently owns.

Tennessee proposes to use a typical pipeline construction ROW width of 100 feet for both the Stagecoach Lateral and the 3.9-mile-long loop, consisting of 50 feet of permanent ROW and 50 feet of temporary extra work space. Tennessee's proposed compressor station would permanently occupy an area of about 8 acres on a 91-acre parcel. Construction of Tennessee's proposed expansion along its 300-Line would occur primarily within existing rights-of-way, although Tennessee would need to acquire additional ROW to use as temporary workspace.

The EA Process

The National Environmental Policy Act (NEPA) requires the Commission to take into account the environmental impacts that could result from an action whenever it considers the issuance of a Certificate of Public Convenience and Necessity. NEPA also requires us ⁴ to discover and address concerns the public may have about proposals. We call this “scoping”. The main goal of the scoping process is to focus the analysis in the EA on the important environmental issues. By this NOI, the Commission requests public comments on the scope of the issues it will address in the EA. All comments received are considered during the preparation of the EA.

⁴ “Us,” “we,” and “our” refer to the environmental staff of the FERC's Office of Energy Projects.

Our independent analysis of the issues will be in the EA. Depending on the comments received during the scoping process, the EA may be published and mailed to Federal, state, and local agencies, elected officials, affected landowners, regional public interest groups, Indian tribes, local newspapers and libraries, and the Commission's official service list for this proceeding. A comment period will be allotted for review if the EA is published. We will consider all comments on the EA before we make our recommendations to the Commission.

Currently Identified Environmental Issues

The EA will discuss impacts that could occur as a result of construction and operation of the proposed projects. We have already identified a number of issues that we think deserve attention based on a preliminary review of the proposed facilities and the environmental information provided by both Central New York and Tennessee. This preliminary list of issues may be changed based on your comments and our analysis.

• Geology and Soils

—Temporary and permanent impacts on prime farmland soils.

—Erosion control and right-of-way restoration.

—Introduction of rock into topsoil.

• Water Resources and Wetlands

—Crossing 26 perennial streams, including coldwater fisheries.

—Crossing of three waterbodies greater than 100 feet wide.

—Impacts on the Delaware River, a designated National Scenic River, resulting from Tennessee's hydrostatic test.

—Crossing 109 wetland areas and affecting a total of 17.1 acres of wetlands.

• Biological Resources

—Impacts on about 324.2 acres of forest or woodland habitat.

—Impact on State Game Land 219 in Bradford County, Pennsylvania.

—Impact on the Wallkill River National Wildlife Refuge in Sussex County, New Jersey.

—Impacts on the bog turtle, a federally listed threatened species.

• Cultural Resources

—Impacts on prehistoric and historic sites.

—Native American concerns.

• Land Use

—Impacts on crop production.

—Impacts on residential areas.

—Visual effect of the aboveground facilities on surrounding areas.

—Impacts on 79 residences and 3 condominium complexes within 50 feet of the proposed construction work area.

—Impacts on the Delaware Water Gap National Recreation Area.

• Air and Noise Quality

—Impacts on local air quality and noise environment as a result of the operation of new compressor stations.

• Alternatives

—Evaluate possible alternatives to the proposed projects or portions of the projects, and make recommendations on how to lessen or avoid impacts on the various resource areas.

Also, we have made a preliminary decision to not address the impacts of the nonjurisdictional facilities. We will briefly describe their location and status in the EA.

Public Participation

You can make a difference by providing us with your specific comments or concerns about the projects. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded:

• Send two copies of your letter to: David P. Boergers, Secretary, Federal Energy Regulatory Commission, 888 First St., N.E., Room 1A, Washington, DC 20426.

• Label one copy of the comments for the attention of the Environmental Review and compliance Branch, PR-11.1;

• Reference Docket Nos. CP00-61-000, CP00-62-000, CP00-63-000, and CP00-65-000;

• Mail your comments so that they will be received in Washington, DC on or before March 20, 2000.

If you do not want to send comments at this time but still want to remain on our mailing list, please return the Information Request (appendix 3). If you do not return the Information Request, you will be taken off the mailing list.

In addition to or in lieu of sending written comments,we invite you to attend the public scoping meetings the FERC will conduct in the project areas. The locations and times for these meetings are listed below.

Schedule of Public Scoping Meetings for the Stagecoach Storage Field and Expansion Projects

March 6, 2000—7:00 pm—Owego, New York, Owego-Apalachin Middle School Cafeteria, Elm Avenue, (607) 687-6248.

March 7, 2000—7:00 pm—Montrose, Pennsylvania, Montrose High School Auditorium, 80 High School Road, (570) 278-3731.

March 8, 2000—7:00 pm—Hamburg, New Jersey, Wallkill Valley Regional High School Cafeteria, 10 Grumm Road, (973) 827-4100.

The public meetings are designed to provide you with more detailed information and another opportunity to offer your comments on the proposed projects. Central New York and Tennessee representatives will be present at the scoping meetings to describe their proposal. Interested groups and individuals are encouraged to attend the meetings and to present comments on the environmental issues they believe should be addressed in the EA. A transcript of each meeting will be made so that your comments will be accurately recorded.

On the dates of the meetings, we will also be conducting limited site visits to the project areas. Anyone interested in participating in the site visit may contact the Commission's Office of External Affairs identified at the end of this notice for more details and must provide their own transportation.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed projects is available for Mr. Paul McKee of the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-4444 Filed 2-24-00; 8:45 am]

BILLING CODE 6717-01-M